DEPARTMENT OF TRANSPORTATION

Coast Guard

[USCG 2002-13767]

Information Collection Under Review by the Office of Management and Budget (OMB): OMB Control Numbers 2115-0606, 2115-0077, 2115-0096, 2115-0549, 2115-0603 and 2115-0640

AGENCY: Coast Guard, DOT.

ACTION: Request for comments.

SUMMARY: In compliance with the Paperwork Reduction Act of 1995, this request for comments announces that the Coast Guard has forwarded the six Information Collection Reports (ICRs) abstracted below to the Office of Information and Regulatory Affairs (OIRA) of the Office of Management and Budget (OMB) for review and comment. Our ICRs describe the information we seek to collect from the public. Review and comment by OIRA ensures that we impose only paperwork burdens commensurate with our performance of duties.

DATES: Please submit comments on or before March 17, 2003.

ADDRESSES: To make sure that your comments and related material do not enter the docket (USCG 2002-13767) more than once, please submit them by only one of the following means:

(1)(a) By mail to the Docket Management Facility, U.S. Department of Transportation, room PL-401, 400 Seventh Street SW., Washington, DC 20590-0001. (b) By mail to OIRA, 725 17th Street NW., Washington, DC 20503, to the attention of the Desk Officer for the Coast Guard. Caution: Because of recent delays in the delivery of mail, your comments may reach the Facility more quickly if you choose one of the other means described below.

(2)(a) By delivery to room PL-401 at the address given in paragraph (1)(a) above, between 9 a.m. and 5 p.m., Monday through Friday, except Federal holidays. The telephone number is 202-366-9329. (b) By delivery to OIRA, at the address given in paragraph (1)(b) above, to the attention of the Desk Officer for the Coast Guard.

(3) By fax to (a) the Facility at 202-493-2251 and (b) OIRA at 202-395-5806, or e-mail to OIRA at oira_docket@omb.eop.gov attention: Desk Officer for the Coast Guard.

(4)(a) Electronically through the Web Site for the Docket Management System at http://dms.dot.gov. (b) OIRA does not have a website on which you can post your comments.

The Facility maintains the public docket for this notice. Comments and material received from the public, as well as documents mentioned in this notice as being available in the docket, will become part of this docket and will be available for inspection or copying at room PL-401 (Plaza level), 400 Seventh Street SW., Washington, DC, between 9 a.m. and 5 p.m., Monday through Friday, except Federal holidays. You may also find this docket on the Internet at http://dms.dot.gov.

Copies of the complete ICRs are available for inspection and copying in public dockets. They are available in docket USCG 2002-13767 of the Docket Management Facility between 10 a.m. and 5 p.m., Monday through Friday, except Federal holidays; for inspection and printing on the Internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION:

Regulatory History

This request constitutes the 30-day notice required by OIRA. The Coast Guard has already published [67 FR 69806 (November 19, 2002)] the 60-day notice required by OIRA. That notice elicited no comments.

Request for Comments

The Coast Guard invites comments on the proposed collection of information to determine whether the collection is necessary for the proper performance of the functions of the Department. In particular, the Coast Guard would appreciate comments addressing: (1) The practical utility of the collection; (2) the accuracy of the Department's estimated burden of the collection; (3) ways to enhance the quality, utility, and clarity of the information that is the subject of the collection; and (4) ways to minimize the burden of collection on respondents, including the use of automated collection techniques or other forms of information technology.

Comments, to DMS or OIRA, must contain the OMB Control Number of the ICR addressed. Comments to DMS must contain the docket number of this request, USCG 2002-13767. Comments to OIRA are best assured of having their full effect if OIRA receives them 30 or fewer days after the publication of this request.

Information Collection Request

1. Title: National Response Resource Inventory.

OMB Control Number: 2115-0606.

Type of Request: Extension of a currently approved collection.

Affected Public: Organizations that remove oil spills.

Form: This collection of information does not require the public to fill out forms, but the information is submitted in a electronic format.

Abstract: The information is needed to improve the effectiveness of deploying response equipment in the event of an oil spill. It may also be used in the development of contingency plans.

Annual Estimated Burden Hours: The estimated burden is 1,224 hours a year.

2. Title: Facilities Transferring Oil or Hazardous Materials in Bulk—Letter of Intent and Operations Manual (OM).

OMB Control Number: 2115-0077.

Type of Request: Extension of a currently approved collection.

Affected Public: Operators of facilities that transfer oil or hazardous materials in bulk.

Form: This collection of information does not require the public to fill out forms, but does require the information to be in written format to the Coast Guard.

Abstract: A Letter of Intent is a notice to the Coast Guard Captain of the Port that an operator intends to operate a facility that will transfer bulk oil or hazardous materials to or from vessels. An OM establishes procedures to follow when conducting the transfer and in the event of a spill.

Annual Estimated Burden Hours: The estimated burden is 27,819 hours a year.

3. Title: Records on Oil and Hazardous Material Pollution Prevention and Safety: Equivalents, Alternatives, and Exemptions.

OMB Control Number: 2115-0096.

Type of Request: Extension of a currently approved collection.

Affected Public: Operators of facilities and vessels transferring oil and hazardous materials in bulk.

Form: CG-4602B.

Abstract: This information is needed to minimize the number and impact of pollution discharges and accidents occurring during transfer of oil or hazardous materials. It also helps to evaluate proposed alternatives and requests for exemptions.

Annual Estimated Burden Hours: The estimated burden is 1,440 hours a year.

4. Title: Requirements for the Use of Liquefied Petroleum Gas and Compressed Natural Gas as Cooking Fuel on Passenger Vessels.

OMB Control Number: 2115-0549.

Type of Request: Extension of a currently approved collection.

Affected Public: Owners and operators of passenger vessels.

Form: This collection of information does not require the public to fill out forms, but does require the posting of two placards on passenger vessels.

Abstract: The collection of information requires passenger vessels to have posted two placards that contain safety and operating instructions on the use of cooking appliances that employ liquefied gas or compressed natural gas.

Annual Estimated Burden Hours: The estimated burden is 2,680 hours a year.

5. Title: Periodic Gauging and Engineering Analyses for Certain Tank Vessels Over 30 Years Old.

OMB Control Number: 2115-0603.

Type of Request: Extension of a currently approved collection.

Affected Public: Owners and operators of certain tank vessels.

Form: This collection of information does not require the public to fill out forms, but does require the information to be in written format to the Coast Guard.

Abstract: OPA 1990 requires the issuance of rules for the structural integrity of tank vessels, including periodic gauging of the plating thickness of tank vessels over 30 years old. This also helps to verify the structural integrity of older such vessels.

Annual Estimated Burden Hours: The estimated burden is 13,688 hours a year.

6. Title: Mandatory Ship Reporting System for the Northeast and Southeast Coasts of the United States.

OMB Control Number: 2115-0640.

Type of Request: Extension of a currently approved collection.

Affected Public: Operators of certain vessels.

Form: This collection of information does not require the public to fill out forms, but does require the information to be reported electronically.

Abstract: The information is needed to reduce the number of ship collisions with endangered northern right whales. The rules establish two mandatory ship-reporting systems off the northeast and southeast coasts of the United States.

Annual Estimated Burden Hours: The estimated burden is 88 hours a year.

Dated: February 4, 2003.
Clifford I. Pearson,
Rear Admiral, Coast Guard, Director of Information and Technology.

[FR Doc. 03-3604 Filed 2-13-03; 8:45 am]

BILLING CODE 4910-15-P